FEDERAL COMMUNICATIONS COMMISSION

47 CFR Part 73

[DA 05-632, MM Docket No. 00-119, RM-9879]

Digital Television Broadcast Service; Hazleton, PA

AGENCY: Federal Communications Commission.

ACTION: Correcting amendment.

SUMMARY: This document contains a correction to the final regulation (47 CFR Part 73), which the Federal Communications Commission published in the Federal Register on February 6, 2001 (66 FR 9038). The rule change related to a change to the DTV Table of Allotments reflecting the substitution of DTV channel 45c for DTV channel 9 at Hazleton. However, DTV channel 45 was inadvertently published without the “c” designation. This document corrects that amendment contained in § 73.622(b) of the Commission's Rules.

DATES: Effective on March 25, 2005.

FOR FURTHER INFORMATION CONTACT: Pam Blumenthal, Media Bureau, (202) 418-1600.

SUPPLEMENTARY INFORMATION:

Background

The FCC published a document in the Federal Register on February 6, 2001 (66 FR 9038) removing DTV channel 9 and adding DTV channel 45 at Hazleton, Pennsylvania. This correction removes DTV channel 45 at Hazleton, Pennsylvania, and adds DTV channel 45c at Hazleton, Pennsylvania.

Need for Correction

As published, the final regulations contain an error, which may prove to be misleading, and needs to be clarified.

This document does not contain (new or modified) information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

The Commission will send a copy of this Erratum in a report to be sent to Congress and the Government Accountability Office pursuant to the Congressional Review Act, see 5 U.S.C. 801(a)(1)(A).

List of Subjects in 47 CFR Part 73

Television, Digital television broadcasting.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Pennsylvania, is amended by removing DTV channel 45 and adding DTV channel 45c at Hazleton.

Federal Communications Commission.
Barbara Kreisman,
Chief, Video Division, Media Bureau.

[FR Doc. 05-5401 Filed 3-17-05; 8:45 am]

BILLING CODE 6712-01-P